FEDERAL RESERVE SYSTEM

Formations of, Acquisitions by, and Mergers of Savings and Loan Holding Companies; Correction

This notice corrects a notice (FR Doc. 2014-24235) published on page 61308 of the issue for Friday, October 10, 2014.

Under the Federal Reserve Bank of New York heading, the entry for Sumitomo Mitsui Financial Group, Inc. and Sumitomo Mitsui Banking Corporation, both in Tokyo, Japan, is revised to read as follows:

1. Sumitomo Mitsui Financial Group, Inc., and Sumitomo Mitsui Banking Corporation, both of Tokyo, Japan; to acquire at least an additional 10 percent, for a total of 19.9 percent of the voting shares of The Bank of East Asia, Limited, Hong Kong S.A.R., Peoples Republic of China, and thereby indirectly acquire additional voting shares of The Industrial and Commercial Bank Of China (USA), N.A., New York, New York.

Comments on this application must be received by November 6, 2014.

Board of Governors of the Federal Reserve System, October 14, 2014.
Michael J. Lewandowski,
Associate Secretary of the Board.

[FR Doc. 2014-24713 Filed 10-16-14; 8:45 am]

BILLING CODE 6210-01-P